ENVIRONMENTAL PROTECTION AGENCY

[FRL-8944-6]

Clean Water Act Section 303(d): Availability of List Decisions

AGENCY: Environmental Protection Agency (EPA).

ACTION: Notice of availability.

SUMMARY: This action announces the availability of EPA decisions identifying water quality limited segments and associated pollutants in Arizona to be listed pursuant to Clean Water Act section 303(d)(2), and requests public comment. Section 303(d)(2) requires that states submit and EPA approve or disapprove lists of waters for which existing technology-based pollution controls are not stringent enough to attain or maintain state water quality standards and for which total maximum daily loads (TMDLs) must be prepared.

On July 31, 2009, EPA partially approved and partially disapproved Arizona's 2006-2008 submittal. Specifically, EPA approved Arizona's listing of 54 waters, associated pollutants, and associated priority rankings. EPA disapproved Arizona's decisions not to list 23 water quality limited segments and associated pollutants, and additional pollutants for 5 water bodies already listed by the State. EPA identified these additional water bodies and pollutants along with priority rankings for inclusion on the 2006-2008 section 303(d) list.

EPA is providing the public the opportunity to review its decisions to add waters and pollutants to Arizona 2006-2008 section 303(d) list, as required by EPA's Public Participation regulations. EPA will consider public comments in reaching its final decisions on the additional water bodies and pollutants identified for inclusion on Arizona's final lists.

DATES: Comments must be submitted to EPA on or before September 21, 2009.

ADDRESSES: Comments on the proposed decisions should be sent to Susan Keydel, Water Division (WTR-2), U.S. Environmental Protection Agency Region IX, 75 Hawthorne Street, San Francisco, CA 94105, telephone (415) 972-3106, facsimile (415) 947-3537, e-mail keydel.susan@epa.gov. Oral comments will not be considered. Copies of the proposed decisions concerning Arizona which explain the rationale for EPA's decisions can be obtained at EPA Region 9's Web site at http://www.epa.gov/region9/water/tmdl/303d.html or by writing or calling Ms. Keydel at the above address. Underlying documentation comprising the record for these decisions is available for public inspection at the above address.

FOR FURTHER INFORMATION CONTACT: Susan Keydel at (415) 972-3106 or keydel.susan@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of section 303(d) of the CWA [40 CFR 130.7]. The regulations require states to identify water quality limited waters still requiring TMDLs every two years. The lists of waters still needing TMDLs must also include priority rankings and must identify the waters targeted for TMDL development during the next two years [40 CFR 130.7].

Consistent with EPA's regulations, Arizona submitted to EPA its listing decisions under section 303(d)(2), received on December 17, 2008. On July 31, 2009, EPA approved Arizona's listing of 54 waters and associated priority rankings. EPA disapproved Arizona's decisions not to list 23 water quality limited segments and associated pollutants, and additional pollutants for 5 water bodies already listed by the State. EPA identified these additional waters and pollutants along with priority rankings for inclusion on the 2006-2008 section 303(d) list. EPA solicits public comment on its identification of additional waters and associated pollutants, and additional pollutants for waters already listed by the State, for inclusion on Arizona's 2006-2008 Section 303(d) list.

Dated: August 3, 2009.
Nancy Woo,
Associate Director, Water Division, Region IX.

[FR Doc. E9-20045 Filed 8-19-09; 8:45 am]

BILLING CODE 6560-50-P